DEPARTMENT OF AGRICULTURE

Forest Service

Deschutes and Ochoco National Forests Resource Advisory Committee

AGENCY: Forest Service, USDA.

ACTION: Notice of meeting.

SUMMARY: The Deschutes and Ochoco National Forests Resource Advisory Committee will meet on Monday, September 23, 2002 at the Central Oregon Intergovernmental Council building, main conference room, 2363 SW Glacier Place, Redmond, Oregon. The meeting will begin at 9 a.m. and continue until 5 p.m. Committee members will review projects proposed and make recommendations under Resource Advisory Committee consideration under Title II of the Secure Rural Schools and Community Self-Determination Act of 2000. All Deschutes and Ochoco National Forests Resource Advisory Committee meetings are open to the public. Interested citizens are welcome to attend.

FOR FURTHER INFORMATION CONTACT: Direct questions regarding this meeting to Leslie Weldon, Designated Federal Official, USDA, Deschutes National Forest, 1645 Highway 20 East, Bend, Oregon 97701, 541-383-5512.

Dated: August 13, 2002.
Leslie A.C. Weldon,
Forest Supervisor, Deschutes National Forest.

[FR Doc. 02-20942 Filed 8-16-02; 8:45 am]

BILLING CODE 3410-11-M